DEPARTMENT OF HEALTH AND HUMAN SERVICES

Administration on Aging

Agency Information Collection Activities: Proposed Submission to the Office of Management and Budget (OMB) for Clearance: Comment Request; Revision of Information Collection

AGENCY: Administration on Aging, HHS.

The Administration of Aging (AoA), Department of Health and Human Services, is submitting the following proposal for the collection of information in compliance with the Paperwork Reduction Act (Pub. L. 96-511): State Annual Long-Term Care Ombudsman Report and Instructions for Older Americans Act Title VII.

Type of Request: Revision of a currently approved collection.

Use: To continue an existing information collection, State Annual Long-Term Care Ombudsman Report (and Instructions), from Older Americans Act Title VII grantees. Under section 712(c), section 712(h)(1) and section 712(h)(2)(B) of the Older Americans Act, as amended, states are required to provide information on ombudsman activities to AoA, which AoA is then required to present to Congress. The information on complaints and conditions in long-term care facilities and the ombudsman program is also used by the states, other federal agencies, researchers and consumer groups for a variety of purposes.

Frequency: Annually.

Respondent: State Long-Term Care Ombudsman Programs.

Estimated number of responses: 53.

Estimated Burden Hours: Approximately 3 hours per state program.

Additional Information or Comments: The reporting system, the National Ombudsman Reporting System (NORS), was developed in response to needs identified and directives in the Older Americans Act and approved by the Office of Management and Budget for use in FY 1995-96. It was twice extended, with slight modifications, for use through August 2004. Although the NORS is approved through August 2004, we are planning to revise the form and instructions for use by the states in FY 2003 (beginning October 2002), with the first report using the revised form due to AoA in January 2004.

The proposed revisions, provided in the attached table, were developed by state and local ombudsmen and have been reviewed by all state ombudsmen. The revised NORS form, with instructions, and a proposed expenditure certification form are posted on the AoA Web site, www.aoa.gov/notices/2002/LTCO-01.html.

Written comments and recommendations for the proposed information collection should be sent by Internet or postal mail to the following address within 60 days of the publication of this notice, via e-mail to sue.wheaton@aoa.gov or regular mail at the following address: Administration on Aging, ATTN: Sue Wheaton, Cohen Building, Room 4737, Washington, DC 20101.

Josefina G. Carbonell,
Assistant Secretary for Aging.

Proposed Changes in National Ombudsman Reporting System (NORS)
Current | Proposed change
Cases, complainants and complaints by type of facility; action taken on the complaints; a summary of long-term care issues; a detailed profile of the program and its activities, including the number and type of facilities licensed and operating in the state (and the number beds this represents); a description of geographic program coverage, by type of facility; the staffing and funding of local programs; and an overview of other ombudsman activities (including: training, technical assistance, resident visitation, community education, and all other items in Part III F of the current form) | No change.
The current NORS instructions provide general guidance but no specific direction on how to code specific complaints | Direction on which codes to use for which types of problems is provided in an attachment to the NORS instructions.
The current form has nine categories for types of complainants (cases) and 133 categories for types of problems (complaints). The specific complaint categories are organized by major types of complaints (Residents Rights, Resident Care, etc.) and the specific categories are listed alphabetically within each major group | Retain the same number of case and complaint fields currently in use and the alphabetical order within the major groups, but adjust the wording on some of the categories to capture problems not specified in the current complaint codes (see italicized words in this column below). (If they wish, states may add additional categories in their own systems and “fold” these back into the NORS categories for the report to AoA.).
For cases and complaints, the current form has a type of facility heading which reads “Board & Care (or similar)” | Add “ALF” (for assisted living facility) and RCF (residential care facility) to the board and care case and complaint column heading so the heading reads: “B&C, ALF, RCF, etc.,” with a footnote explaining the types of facilities that are included. In response to an ombudsman recommendation, the footnote clarifies that complaints may be from unregulated as well as regulated facilities.
Complaint Category F. 40 reads “Accidents, improper handling” | Change to “Accidental or injury of unknown origin; falls; improper handling.”
Category 41 reads “Call lights, requests for assistance” | Change to “Call lights, response to requests for assistance.”
Category F.47 reads “Pressure sores” | Change to “Pressure sores, not turned.”
Category F.49 reads “Toileting” | Change to “Toileting, incontinent care.”
Category P. 117 reads “Abuse/abandonment by family member/friend/guardian or, while on visit out of facility, any other person” | Change to “Abuse/neglect/abandonment by family member/friend/guardian or, while on visit out of facility, any other person.”
Category P. 121 reads “Financial exploitation by family or other not affiliated with facility” | Change to read: “Financial exploitation or neglect by family or other not facility” and emphasize in the instructions this addition and how to use this complaint category.
Major Category Q. reads “Complaints in Other Than Nursing or Board and Care/Similar Settings” and Q. 132 reads “Shelters” | Strike “Shelters” from Q.132 and use Q.132 to capture “Services from outside provider” (i.e., personal care, transportation or other service provided to a facility resident by an outside provider). Change the heading of Q to read “Complaints About Services in Settings Other Than Long-Term Care Facilities or By Outside Provider” and emphasize/clarify in the instructions how to use the new Q.132.
NORS instructions providegeneral guidance but emphasis and increased clarity are required on some items | Emphasize in the NORS instructions that category A.6 “Resident-to-resident physical or sexual abuse” is for willful abuse of one resident by another resident, not for unintentional harm or altercations between residents who require staff supervision, which should be coded in category I.66. (For example, a confused resident who strikes out is categorized at I.66 and an alert resident who strikes out is A.6.)
| Add to the instructions that resident requests for assistance in moving out of the facility should be coded under P. (System/Others) 128 “Other.”
Part I E.2.(a) under “Disposition” reads (number of complaints) “for which government policy or regulatory change or legislative action was required to resolve * * *” | Change the verb tense so it reads “for which government policy or regulatory change or legislative action is required to resolve * * *”.
| For Part III F. “Other Ombudsman Activities,” item 6, the instructions define more prominently and specifically that resident visitation on a “regular basis” means no less frequently than quarterly. (Note: “Regular visitation” is not a federal ombudsman program requirement, but it is an activity in the NORS which requires definition.)
| The instructions clarify Part III F.7., “Participation in Facility Surveys,” means participating in any aspect of both regular surveys and surveys held in response to complaints. This may include conferring with the certification agency prior to or following a survey. It is not limited to actually going with the team on the survey.
| The instructions emphasize that under Part I A and B, a “case” means “opening of a case file and includes ombudsman investigation, fact gathering, setting of objectives and/or strategy to resolve, and follow-up” (which is the definition of “case” on the NORS form). Other calls reporting incidents or seeking advice but not requiring ombudsman involvement to the degree specified in this definition should be counted as consultations to individuals or facilities in Part III F.4. or documented in some way specific to the state's needs but not included in the NORS system. For example, in those few states where state law requires reporting instances of nursing home abuse to the ombudsman program, the reports should not be counted as a case and as an abuse complaint unless the ombudsman program investigates and is actively involved in working out a resolution. Unless the ombudsman program is actively engaged in investigating and working to resolve the problems reported, the program should keep its own list of such reports and not include them in the data submitted in the NORS system.
The instructions, at the bottom of page 3, direct ombudsmen to document primary complaints in Part I D but not to document problems which are incidental to, or even causal to, the primary complaint | This direction is deleted from the instructions. (The effect will be to leave such documenting decisions up to the states. One state ombudsman staff member strongly objected to this change because it could lead to inconsistent documentation among the states, but the majority of those on the task force thought the directive should be deleted because it causes confusion and inaccuracies in reporting complaints and problems experienced by residents.)
| The instructions clarify the distinctions between complaint categories B.14, D.29, and M.96, all of which involve communication/language barriers and yet are different types of problems (as explained. in the “Complaint Codes” attachment to the instructions).
| The instructions emphasize that supplies not provided as part of the daily rate should be coded under E.36, “Billing, etc.”
| The instructions as well as the form emphasize that problems with a referral agency failing to substantiate a complaint should be coded under the Part III E.2.d.2) disposition category.
| The instructions emphasize in that complaints about “nutrients out-of-date” should be categorized under J.71 dealing with food quality.
| The instructions clarify that “percentage of staff time spent on technical assistance for volunteers” under “other ombudsman activities” includes staff resources devoted to the management and administration of the volunteer program as a whole.
| Add the following to the narrative issues section, Part II:
| B. Facility Closures: If your program has worked on facility closures, please include a description of these activities, including reasons for the closure(s) and outcomes of ombudsman activities.”
| C. Alternative Care Systems: If your program has been involved in planning for alternatives to institutional care and/or has assisted individual residents to move to less restrictive settings of their choice, please describe these activities and provide an approximate number of the individuals who have been assisted.
OMB-approved form for certifying compliance with minimum funding requirement expired in FY 1997 | Add a form for state certification of compliance with the ombudsman minimum funding and non-supplantation provisions in the Act and to confirm expenditures reported in the NORS.

[FR Doc. 02-4800 Filed 2-27-02; 8:45 am]

BILLING CODE 4154-01-P